DEPARTMENT OF HOMELAND SECURITY

Coast Guard

33 CFR Part 165

[CGD09-03-207]

RIN 1625-AA01

Tall Ships 2003, Navy Pier, Chicago, IL, July 30-August 4, 2003

AGENCY: Coast Guard, DHS.

ACTION: Temporary final rule.

SUMMARY: The Coast Guard is increasing the size of the Regulated Navigation Area (RNA) for the Chicago Tall Ships 2003 event at Navy Pier. These regulations are necessary to control vessel traffic in the immediate vicinity for the protection of both participant and spectator vessels during the 2003 Tall Ships Challenge and Parade of Ships. These regulations are intended to restrict vessel traffic in a portion of Lake Michigan in the vicinity of Chicago Harbor for the duration of the event. This change will expand the size of the RNA in order to improve the level of safety for both participant and spectator vessels during the 2003 Tall Ships Challenge and Parade of Ships and will also extend the effective date by one day.

DATES: This rule is effective from 8 p.m. on Wednesday, July 30, 2003 until 5 p.m. on Monday, August 4, 2003.

ADDRESSES: Comments and material received from the public, as well as documents indicated in this preamble as being available in the docket, are part of docket CGD09-03-207 and are available for inspection or copying at U.S. Coast Guard Marine Safety Office Chicago, 215 W. 83rd Street, Suite D, Burr Ridge, IL 60527, between 8 a.m. and 4 p.m. Monday through Friday, except federal holidays.

FOR FURTHER INFORMATION CONTACT: MST2 Kenneth Brockhouse, MSO Chicago, at (630) 986-2155.

SUPPLEMENTARY INFORMATION:

Regulatory Information

On July 17, 2003, we published a temporary final rule entitled Tall Ships 2003, Navy Pier, Chicago, IL, July 30-August 4, 2003 in the Federal Register (68 FR 42285). In that regulation, we suspended some anchorage regulations, established a moving safety zone, as well as a Regulated Navigation Area (RNA). However, in this rulemaking, the size of that RNA is being increased.

Under 5 U.S.C. 553(d)(3), the Coast Guard finds that good cause exists for making this rule effective less than 30 days after publication in the Federal Register. Delaying the effective date of this rule would be contrary to the public interest of ensuring the safety of spectators and vessels during this event and immediate action is necessary to prevent possible loss of life or property. The Coast Guard has not received any complaints or negative comments with regard to this event. The Coast Guard, along with planning officials for the Chicago Tall Ships 2003 from the State of Illinois and the City of Chicago, have decided that a larger RNA is necessary to ensure safety and protection during this event.

For the same reasons, under 5 U.S.C.(b)(B) the Coast Guard finds that good cause exists for not publishing an NPRM.

Background and Purpose

During the Chicago Tall Ships event, tall ships will be participating in a Tall Ships Parade and then mooring in Chicago harbor and in the Chicago River. While a moving safety zone is being established to ensure the safety of official participant vessels during the parade, an RNA is also being established that encompasses portions of both the Chicago Harbor as well as the Chicago River. This RNA is to ensure the safety of spectator vessels and official participant vessels, as well as those boarding the tall ships, from vessels transiting at excessive speeds creating large wakes, and also to prevent obstructed waterways. The RNA will be established on July 30, 2003 and terminate on August 4, 2003 after all the tall ships have departed the area.

Discussion of Comments and Changes

No comments were received regarding this rule. The following change is being made from the previous temporary rule: the regulated navigation area (RNA) is being expanded in order to improve the level of safety for both participant and spectator vessels during the 2003 Tall Ships Challenge and Parade of Ships.

Regulatory Evaluation

This rule is not a “significant regulatory action” under section 3(f) of Executive Order 12866 on Regulatory Planning and Review and therefore does not require an assessment of potential costs and benefits under section 6(a)(3) of that Order. The Office of Management and Budget has not reviewed this rule under that order. It is non-significant under Department of Homeland Security regulatory policies and procedures. We expect the economic impact of this rule to be so minimal that a full Regulatory Evaluation under paragraph 10(e) of the regulatory policies and procedures of DHS is unnecessary. This finding is based on the minimal time that vessels will be restricted from the zone.

Small Entities

In accordance with the Regulatory Flexibility Act (5 U.S.C. 601-612) has determined that this rule will not have a significant impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. This final rule would affect the following entities, some of which might be small entities: The owners or operators of vessels intending to transit or anchor in a portion of an activated safety zone. The safety zone and suspended anchorage area would not have a significant economic impact on a substantial number of small entities for the following reasons. Vessel traffic can safely pass outside the proposed safety zone during the event. Traffic would be allowed to pass through the safety zone only with the permission of the Captain of the Port or his on-scene representative which will be the Patrol Commander. In addition, before the effective period, the Coast Guard would issue maritime advisories widely available to users who might be in the affected area.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), the Coast Guard wants to assist small entities in understanding this rule so that they can better evaluate its effects and participate in the rulemaking process. If the rule would affect your small business, organization, or governmental jurisdiction and you have questions concerning its provisions or options for compliance, please contact MSO Chicago (see ADDRESSES).

Collection of Information

This rule would call for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a state, local, or tribal government or the private sector to incur direct costs without the Federal Government's having first provided the funds to pay those costs. This rule would not impose an unfunded mandate.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard has considered the environmental impact of this rule and concluded that, under figure 2-1, paragraph 32(g) of Commandant Instruction M16475.1C, this rule is categorically excluded from further environmental documentation. A written categorical exclusion determination is available in the docket for inspection or copying where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 70: 50 U.S.C. 191, 195; 33 CFR 1.05-1(g), 6.04-1, 6.04-6 and 160.5; Pub. L. 107-295, 116 Stat. 2064; Department of Homeland Security Delegation No. 0170.1.

§ 165.T09-207 [Amended]

2. In § 165.T09-207 remove and reserve paragraph (a).

3. Add § 165.T09-257 to read as follows:

§ 165.T09-257 Tall Ships 2003, Navy Pier, Lake Michigan, Chicago, IL.

(a) Regulated navigation area; location. The following is a regulated navigation area: starting at the Alder Planetarium at 41°52′00″ N, 87°36′22″ W; then east to 41°52′00″ N, 087°35′26″ W; then north to the southern most end of the outer Chicago Harbor break wall at 41°52′48″ N, 087°35′26″ W; then north and then northwest following the outer Chicago Harbor break wall to 41°54′11″ N, 087°36′29″ W; then southeast to the north-east tip of the Central District Filtration Plant; then following the shoreline including up the Chicago River to the eastern side of the Michigan Avenue bridge back to the point of origin (NAD 83).

(b) Effective period. This section is effective from 8 p.m. on Wednesday, July 30, 2003 until 5 p.m. on Monday, August 4, 2003.

(c) Special regulations. Vessels within the RNA shall not exceed 5 miles per hour or shall proceed at no-wake speed, whichever is slower. Vessels within the RNA shall not pass within 20 feet of a moored tall ship. Vessels within the RNA must adhere to the direction of the Patrol Commander or other official patrol craft.

Dated: July 24, 2003.
Ronald F. Silva,
Rear Admiral, Coast Guard, Commander, Ninth Coast Guard District.

[FR Doc. 03-19542 Filed 7-28-03; 4:08 pm]

BILLING CODE 4910-15-P